DEPARTMENT OF TRANSPORTATION

Federal Aviation Administration

14 CFR Part 39

[Docket No. FAA-2013-0341; Directorate Identifier 2012-SW-025-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model EC120B and EC130B4 helicopters with certain emergency flotation gear (float) installed. This proposed AD would require inspecting the float for chafing of the fabric covering and adding protectors to the float installation to prevent contact between the float and the protruding sections of the installation. This proposed AD is prompted by a report of a float that would not inflate during overhaul because one of the float compartments was punctured due to chafing. The proposed actions are intended to prevent failure of float and subsequent loss of control of the helicopter during an emergency water landing.

DATES: We must receive comments on this proposed AD by June 14, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0185, dated September 23, 2011 (AD 2011-0185), to correct an unsafe condition for the Eurocopter Model EC120 and EC130 helicopters. EASA advises that during overhaul of an emergency flotation gear installation, it was impossible to inflate the right-hand (RH) float according to the instructions in the equipment manufacturer's manual. An investigation revealed that one of the compartments in the float was punctured and several areas of the left-hand (LH) and RH floats were damaged. According to EASA, the damage was caused by chafing between the float and the protruding sections of the supply bars and banjo unions. To address this potentially unsafe condition, EASA issued AD No. 2009-0190, dated August 26, 2009 (AD 2009-0190), which required repetitive inspections of the floats to detect chafing. Since AD 2009-0190 was issued, Aerazur, the float manufacturer, developed protectors to be installed on the floats to eliminate interference between the float and the blunt parts of the installation. EASA then issued AD 2011-0185, which superseded AD 2009-0190 and required installation of the protectors on the floats as terminating action for the repetitive inspections.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter has issued Alert Service Bulletin (ASB) No. 05A011, Revision 0, dated June 8, 2009 (ASB 05A011), for Model EC120B helicopters and ASB No. 05A008, Revision 0, dated June 8, 2009 (ASB 05A008), for Model EC130B4 helicopters. Both ASBs specify inspecting the floats for deterioration and chafing at specified intervals and, if necessary, repairing the floats.

Eurocopter has also issued ASB No. EC120-25A026, Revision 0, dated July 11, 2011 (ASB EC120-25A026), for Model EC120B helicopters and ASB No. EC130-25A042, Revision 0, dated July 11, 2011 (ASB EC130-25A042), for Model EC130B4 helicopters. Both ASBs specify modifying certain part-numbered LH and RH emergency flotation gear by adding protectors onto the rear bracket and supply couplings of the float installation. The ASBs specify following procedures in Aerazur Service Bulletin (SB) No. 25-69-87, dated March 14, 2011, for floats installed on Model EC120B helicopters and Aerazur SB No. 25-69-58, dated March 14, 2011, for floats installed on Model EC130B4 helicopters. Each Aerazur SB is incorporated as an appendix to the corresponding Eurocopter ASB.

Proposed AD Requirements

This proposed AD would require:

• For floats with 250 or more hours time-in-service (TIS), within 50 hours TIS, inspecting the floats for chafing.

• For floats with less than 250 hours TIS since installation, before accumulating 300 hours TIS, inspecting the floats for chafing.

• If, during any inspection required by this proposed AD, chafing is detected, before further flight, inspecting the float and fittings and repairing if necessary.

• Within 300 hours TIS, installing protective covers on the floats as described in ASB EC120-25A026 or ASB EC130-25A042, as appropriate for your model helicopter.

Costs of Compliance

We estimate that this proposed AD would affect 60 helicopters of U.S. Registry. Based on an average labor rate of $85 per work-hour, we estimate that operators may incur the following costs to comply with this AD. Inspecting the floats for chafing would require about .5 hour, for a cost per helicopter of $43, and a cost to U.S. operators of $2,580. Modifying the floats with protective covers would require about 1 hour and required parts would cost about $500, for a cost per helicopter of $585, and a cost to U.S. operators of $35,100. The total estimated cost of this proposed AD is $628 per helicopter and $37,680 for the U.S. operator fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2013-0341; Directorate Identifier 2012-SW-025-AD.

(a) Applicability

(1) This AD applies to the following helicopters, certificated in any category:

(i) Model EC120B helicopters with a left-hand (LH) emergency flotation gear, part number (P/N) 215674-0, 215674-1, or 215674-2 installed, fitted with a float, P/N 215481-0; or with a right-hand (RH) emergency flotation gear, P/N 215675-0, 215675-1, or 215675-2 installed, fitted with a float, P/N 215482-0; and

(ii) Model EC130B4 helicopters with a LH emergency flotation gear P/N 217227-0 installed, fitted with a float P/N 217174-0; or with a RH emergency flotation gear P/N 217228-0 installed, fitted with a float, P/N 217195-0.

(b) Unsafe Condition

This AD defines the unsafe condition as chafing of the float due to contact with the protruding sections of the supply bars and banjo sections of the emergency flotation gear installation. This condition could result in the float becoming punctured, failure of the float to inflate, and subsequent loss of control of the helicopter during an emergency water landing.

(c) Reserved

(d) Compliance

You are responsible for performing each action required by this AD within the specified compliance time unless it has already been accomplished prior to that time.

(e) Required Actions

(1) For emergency flotation gear that have accumulated 250 or more hours time-in service (TIS), within 50 hours TIS, accomplish the following:

(i) Undo the Velcro tapes and remove the break laces. Remove the caps from the cover end. Unfold the cover.

(ii) Inspect each float area in contact with the emergency flotation gear protruding parts (supply bar, banjo union, and fittings) for chafing as shown in Figure 1 of Eurocopter Alert Service Bulletin (ASB) No. 05A011, Revision 0, dated June 8, 2009, or Eurocopter ASB No. 05A008, Revision 0, dated June 8, 2009, as appropriate for your model helicopter.

(iii) If there is any chafing between the protruding parts and the float fabric, before further flight, inspect the flotation gear.

(A) Unfold and visually inspect the float assemblies for any cuts, tears, punctures, or abrasion. Replace the cover if the internal polycarbonate sheet is cut or if the cover is cut or punctured.

(B) Lightly inflate the floats to approximately 50 hectopascals through the manual inflating valve and inspect the fabric panels and girts for any cuts, tears, punctures, or abrasion. If there is a cut, tear, puncture, or any abrasion, repair the float.

(2) For emergency floatation gear that have accumulated less than 250 hours TIS, on or before accumulating 300 hours TIS, inspect the float gear as described in paragraph (e)(1)(i) through (iii) of this AD.

(3) Within 300 hours TIS:

(i) For Model EC120B helicopters, install protectors on and re-identify the P/N of each LH and RH emergency floatation gear as described in the Operating Instructions, paragraph 2.C., of Aerazur Service Bulletin (SB) No. 25-69-87, dated March 14, 2011. The Aerazur SB is attached as an appendix to Eurocopter Alert Service Bulletin (ASB) No. EC120-25A026, Revision 0, dated July 11, 2011.

(ii) For Model EC130B4 helicopters, install protectors on and re-identify the P/N of each LH and RH emergency floatation gear as described in the Operating Instructions, paragraph 2., of Aerazur SB No. 25-69-58, dated March 14, 2011. The Aerazur SB is attached as an appendix to Eurocopter ASB No. EC130-25A042, Revision 0, dated July 11, 2011.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency AD No. 2011-0185, dated September 23, 2011.

(h) Subject

Joint Aircraft Service Component (JASC) Code: 3212: Emergency Flotation Section.

Issued in Fort Worth, Texas, on April 8, 2013.
Kim Smith,
Directorate Manager, Rotorcraft Directorate, Aircraft Certification Service.

[FR Doc. 2013-08758 Filed 4-12-13; 8:45 am]

BILLING CODE 4910-13-P